ENVIRONMENTAL PROTECTION AGENCY

40 CFR Part 52

[EPA-R06-OAR-2006-0850; FRL-9123-9]

Approval and Promulgation of Implementation Plans; Texas; Revisions to Chapter 116 Which Relate to the Application Review Schedule

AGENCY: Environmental Protection Agency (EPA).

ACTION: Proposed rule.

SUMMARY: EPA is proposing to approve revisions to the Texas State Implementation Plan (SIP) submitted by the State of Texas to EPA on September 25, 2003 and January 24, 2008. The portions of the SIP revisions proposed today address requirements found under Title 30 in the Texas Administrative Code (TAC), Chapter 116—Control of Air Pollution by Permits for New Construction or Modification, Section 114—Application Review Schedule. The proposed revisions; amends the requirements related to the voiding of a permit or permit amendment; and implements the requirements of House Bill 3732, 80th Legislature (2007), and the Texas Health and Safety Code, section 382.0566, concerning specific deadlines for review and issuance of air quality permits for Advanced Clean Energy Projects (ACEP). EPA has determined that these changes to the Texas SIP comply with the Federal Clean Air Act (the Act or CAA) and EPA regulations, are consistent with EPA policies, and will improve air quality. This action is being taken under section 110 and parts C and D of the Act.

DATES: Comments must be received on or before April 7, 2010.

ADDRESSES: Comments may be mailed to Mr. Jeff Robinson, Chief, Air Permits Section (6PD-R), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: If you have questions concerning today's proposal, please contact Ms. Melanie Magee (6PD-R), Air Permits Section, Environmental Protection Agency, Region 6, 1445 Ross Avenue (6PD-R), Suite 1200, Dallas, TX 75202-2733. The telephone number is (214) 665-7161. Ms. Magee can also be reached via electronic mail at magee.melanie@epa.gov.

SUPPLEMENTARY INFORMATION: In the final rules section of this Federal Register, EPA is approving the State's SIP submittal as a direct final rule without prior proposal because the Agency views this as a noncontroversial submittal and anticipates no relevant adverse comments. A detailed rationale for the approval is set forth in the direct final rule. If no relevant adverse comments are received in response to this action, no further activity is contemplated. If EPA receives relevant adverse comments, the direct final rule will be withdrawn and all public comments received will be addressed in a subsequent final rule based on this proposed rule. EPA will not institute a second comment period. Any parties interested in commenting on this action should do so at this time. Please note that if EPA receives adverse comment on an amendment, paragraph, or section of the rule, and if that provision may be severed from the remainder of the rule, EPA may adopt as final those provisions of the rule that are not the subject of an adverse comment.

For additional information, see the direct final rule which is located in the rules section of this Federal Register.

Dated: February 24, 2010.
Al Armendariz,
Regional Administrator, Region 6.

[FR Doc. 2010-4832 Filed 3-5-10; 8:45 am]

BILLING CODE 6560-50-P